DEPARTMENT OF THE INTERIOR

Fish and Wildlife Service

[FWS-R8-ES-2010-N046; 80221-1112-0000-F2]

Green Diamond Resource Company, California Timberlands Division, Forest Management Habitat Conservation Plan and Incidental Take Permit, Del Norte and Humboldt Counties, California

AGENCY: Fish and Wildlife Service, Interior.

ACTION: Notice of intent to conduct public scoping and prepare an environmental impact statement.

SUMMARY: We, the U.S. Fish and Wildlife Service (USFWS), intend to prepare an Environmental Impact Statement (EIS) under the National Environmental Policy Act (NEPA) regarding an expected application from the Green Diamond Resource Company, California Timberlands Division (Green Diamond), for an incidental take permit (ITP, or permit) authorizing incidental take of federally threatened wildlife species under the Endangered Species Act of 1973, as amended (ESA). Green Diamond is preparing a Habitat Conservation Plan (HCP) and application for an ITP related to forest management and timber operations on its lands in Del Norte and Humboldt Counties, California. The HCP and ITP will cover the northern spotted owl (Strix occidentalis caurina) (NSO or spotted owl) and may also cover the Pacific fisher (Martes pennanti) (fisher), a currently unlisted species which has the potential to become listed during the term of the HCP. We are furnishing this notice to announce the initiation of a public scoping period during which we invite other agencies, Tribes, and the public to submit written comments providing suggestions and information on the scope of issues and alternatives to be addressed in the EIS.

DATES: Please send written comments on or before May 17, 2010.

ADDRESSES: Please send written comments to Mr. Randy Brown, Acting Field Supervisor, U.S. Fish and Wildlife Service, Arcata Fish and Wildlife Office, 1655 Heindon Road, Arcata, CA 95521. You may also submit comments by e-mail to fw8_greendiamondeis@fws.gov or by fax to (707) 822-8411. Comments we receive will be available for public inspection, by appointment, during normal business hours (Monday through Friday, 8 a.m. to 4:30 p.m.) at the above address.

FOR FURTHER INFORMATION CONTACT: Mr. Ray Bosch, Fish and Wildlife Biologist, at the Arcata Fish and Wildlife Office address above; by telephone at (707) 822-7201 or fax at (707) 822-8411; or by e-mail at ray_bosch@fws.gov.

SUPPLEMENTARY INFORMATION:

Statutory Authority

In accordance with section 10(a)(2)(A) of the Endangered Species Act of 1973, as amended (ESA; 16 U.S.C. 1531 et seq.), Green Diamond is preparing a HCP in support of an application for a permit from the USFWS to incidentally take the northern spotted owl and, potentially, the Pacific fisher. Section 9 of the ESA (16 U.S.C. 1538) and the implementing regulations prohibit the take of animal species listed as endangered or threatened. The term “take” is defined under the ESA (16 U.S.C. 1532) as to harass, harm, pursue, hunt, shoot, wound, kill, trap, capture, or collect, or to attempt to engage in any such conduct. “Harm” is defined by Service regulation (50 CFR 17.3) to include significant habitat modification or degradation where it actually kills or injures wildlife by significantly impairing essential behavioral patterns, including breeding, feeding, and sheltering. For certain circumstances, under Section 10(a)(1)(B) of the ESA we may issue permits to authorize “incidental take” of listed species. “Incidental take” is defined by the ESA as take that is incidental to, and not the purpose of, carrying out an otherwise lawful activity. Regulations governing permits for threatened and endangered species are found in the Code of Federal Regulations at 50 CFR 17.32 and 50 CFR 17.22, respectively. If the permit is issued, Green Diamond would receive assurances for all species included on the incidental take permit under the USFWS “No Surprises” regulation (50 CFR 17.22(b)(5) and 17.32 (b)(5)).

Section 10 of the ESA specifies the requirements for the issuance of incidental take permits to non-Federal entities. Any proposed take must be incidental to otherwise lawful activities and cannot appreciably reduce the likelihood of the survival and recovery of the species in the wild. The impacts of such take must also be minimized and mitigated to the maximum extent practicable. To obtain an incidental take permit, an applicant must prepare a HCP describing the impact that will likely result from the proposed taking, the measures for minimizing and mitigating the take, the funding available to implement such measures, alternatives to the taking, and the reason why such alternatives are not being implemented.

NEPA (42 U.S.C. 4321 et seq.) requires that Federal agencies conduct an environmental analysis of their proposed actions to determine if the actions may significantly affect the human environment. Under NEPA, our proposed action is the authorization of incidental take through issuance of an ITP conditioned on our approval of Green Diamond's HCP. We will develop and evaluate a reasonable range of alternatives to the proposed action in our environmental review. Alternatives considered for analysis in an environmental document may include variations in the scope of covered activities; variations in the location, amount, and type of conservation; variations in permit duration; or a combination of these elements. In addition, the environmental document will identify potentially significant direct, indirect, and cumulative impacts on biological resources, land use, air quality, water quality, water resources, socioeconomics, and other environmental issues that could occur with the implementation of the proposed action and alternatives. For potentially significant impacts, the environmental document may identify avoidance, minimization, and mitigation measures to reduce these impacts, where feasible, to a level below significance.

Background

Green Diamond (formerly Simpson Timber Company) owns more than 400,000 acres in Del Norte, Humboldt, and Trinity Counties, California, which are managed as commercial timberland. Green Diamond's property includes habitat in landscapes important to the conservation of forest and aquatic wildlife species in the North Coast region of California. Some of Green Diamond's management activities have the potential to impact wildlife species protected by the ESA. Green Diamond is preparing a 50-year HCP that is intended to provide for management of approximately 406,783 acres of its California properties in Del Norte and Humboldt Counties in a manner that will minimize and mitigate the impacts of take of certain wildlife species currently listed under the ESA or which may be listed during the life of the Plan. Once completed, we expect that Green Diamond will submit the HCP to us as part of an application for an ITP.

Green Diamond is currently implementing two HCPs and associated incidental take permits on its northern California lands, one covering the northern spotted owl (issued in 1992) and the other covering aquatic species (issued in 2007).

We issued a 30-year NSO ITP in September 1992, authorizing the incidental take of up to 50 spotted owl pairs. As required by the NSO HCP, Green Diamond and the USFWS conducted a comprehensive review of the first 10 years of implementation, including a comparison of actual and estimated levels of owl displacement, a comparison of estimated and actual distribution of habitat, a re-evaluation of the biological basis for the HCP's conservation strategy, an examination of the efficacy of and continued need for habitat set-asides, and an estimate of future owl displacements. During the comprehensive review, Green Diamond requested an amendment to the 1992 ITP to allow incidental take of up to eight additional spotted owl pairs, to provide operational flexibility while we and Green Diamond evaluated the findings of the comprehensive review. In October 2007 we published a Final Environmental Assessment and approved an amendment to the 1992 ITP authorizing incidental take of eight additional spotted owl pairs.

In 2007, we issued an enhancement of survival permit (ESP), and the National Marine Fisheries Service (NMFS) issued a separate ITP to Green Diamond, based on a federally approved Aquatic HCP designed to address listed and unlisted fish and amphibian species. That Aquatic HCP and ITP/ESP establish standards for management and maintenance of streamside protection and geologic hazard zones with limited timber harvest entry, along with other aquatic species conservation measures.

In the near future, Green Diamond intends to submit a new proposed HCP addressing the northern spotted owl, and perhaps also the fisher. This new HCP, which would replace the 1992 HCP and ITP, will be based upon the results of the NSO HCP comprehensive review, and the results of extensive NSO and other monitoring and research conducted by Green Diamond, the USFWS, and other entities. During the nearly 18 years of implementation of the 1992 HCP, Green Diamond conducted extensive monitoring and research on spotted owls, fishers, and other species. In addition, the recently implemented Aquatic HCP includes provisions for streamside management and geologic hazard zones that Green Diamond anticipates will provide benefits to spotted owls, fishers, and other terrestrial species. The new HCP will seek to integrate terrestrial species conservation measures with compatible elements of the Aquatic HCP, including the associated establishment and management of streamside protection and geological hazard zones, and incorporate updated information on spotted owls and fishers, to more effectively conserve those species and their habitats.

Proposed Plan

The proposed new HCP will likely cover the following activities, which could result in incidental take of the covered species: Mechanized timber harvest; forest product transportation; construction, use, maintenance and abandonment of roads and landings; site preparation; tree planting; certain types of vegetation management; fertilizer application; forest thinning; fire suppression; rock quarries and borrow pit operations; gravel extraction; other forest management and silvicultural activities typical of commercial timberland operation in northwestern California; and implementation of take avoidance, minimization, mitigation, and conservation measures, including habitat management, deadwood management, species monitoring, and species research projects.

As required by the ESA, the proposed new HCP must specify the measures Green Diamond will take to minimize and mitigate the impacts of the proposed incidental take to the maximum extent practicable. We anticipate that the proposed new HCP will address some or all of the following:

(1) Retention of suitable nesting habitat associated with all or some portion of active spotted owl sites well distributed throughout Green Diamond's ownership;

(2) Specific habitat management measures, including retention and recruitment of late seral habitat elements;

(3) The use of dynamic core areas of spotted owl habitat in lieu of and/or in conjunction with the retention of some or all currently existing static set-asides identified in the 1992 NSO HCP;

(4) Conditions under which currently retained owl sites may be released for harvest following future establishment of spotted owl nest sites in maturing streamside retention zones established and managed pursuant to the Aquatic HCP;

(5) Distribution of owl retention sites across the Green Diamond landscape in a clustering pattern, rather than a random or uniform pattern, based upon documented conservation principles for the species;

(6) Appropriate forest age class distribution constituting suitable spotted owl and fisher habitat in the redwood (Sequoia sempervirens) region;

(7) Stand-specific habitat elements to be retained or managed during harvest to promote future habitat suitability for the covered species;

(8) Studies of barred owl and spotted owl interactions and, if warranted, authorization for implementation of a barred owl management plan;

(9) Current requirements imposed on Green Diamond as mandated by other applicable Federal and State laws; and

(10) An effectiveness monitoring program, which will include ongoing spotted owl and fisher studies to validate and/or revise habitat models.

Environmental Review of This Proposal

Prior to issuing a new ITP, we will prepare a draft Environmental Impact Statement (EIS) to analyze the environmental impacts associated with the potential issuance of the requested ITP and the implementation of the HCP by Green Diamond. The EIS will be prepared in accordance with the requirements of NEPA and its implementing regulations (40 CFR parts 1500 through 1508), and in accordance with other applicable Federal laws and regulations and USFWS policies and procedures for compliance with those regulations. We anticipate that the draft EIS will be available for public review by Fall/Winter 2010.

The EIS will analyze the environmental impacts of the proposed action (permit issuance) and of a reasonable range of alternatives. We are currently in the process of developing alternatives for analysis. In connection with developing the alternatives, we will consider, for example, modified lists of covered species, modified permit coverage areas (i.e., portions of the landscape subject to permit coverage), modified permit terms, and different resource management strategies that would serve the purpose of minimizing and mitigating the impacts of incidental take.

Based on our consideration of these factors to date, we anticipate the alternatives to the proposed Plan may include the following: (1) A “no action” alternative in which the requested ITP would not be issued and the conservation measures in the proposed new HCP would not be implemented; (2) an alternative that would focus on northern spotted owls and that would not include deadwood management and other habitat management efforts intended primarily to provide conservation benefits to the fisher; (3) an alternative that would include other species as covered species, with appropriate habitat management for them; (4) an alternative that would not include measures to manage barred owls; and (5) an alternative that would not utilize dynamic core areas but would instead maintain the static set-aside approach from the 1992 NSO HCP/ITP.

We invite comments and suggestions from all interested parties to ensure consideration of a full range of reasonable alternatives related to development of the EIS, and that all significant issues are identified. We request that comments be as specific as possible, and that comments include information and concerns regarding the following issues:

(1) The direct, indirect, and cumulative effects that implementation of any reasonable alternatives could have on endangered and threatened species and their habitats;

(2) Other reasonable alternatives consistent with the purpose of the proposed new HCP as described above, and their associated effects;

(3) Measures that would minimize and mitigate potentially adverse effects of the proposed action;

(4) Baseline environmental conditions in and adjacent to the covered lands;

(5) Adaptive management or monitoring provisions that may be incorporated into the alternatives, and their benefits to listed species;

(6) Other plans or projects that might be relevant to this action; and

(7) Any other information pertinent to evaluating the effects of the proposed action on the human environment.

The EIS will analyze and document the effects that the considered alternatives would have on spotted owls, fishers, and any other species, as well as other components of the human environment, including but not limited to cultural resources, social resources (including public safety), economic resources, water and air quality, global climate change, and environmental justice.

Please direct any comments to the USFWS contact listed above in the ADDRESSES section, and any questions to the USFWS contact listed in the FOR FURTHER INFORMATION CONTACT section. All comments and materials received, including names and addresses, will become part of the administrative record and may be released to the public. Before including your address, phone number, e-mail address, or other personal identifying information in your comment, you should be aware that your entire comment—including your personal identifying information—may be made publicly available at any time. While you can ask us in your comment to withhold your personal identifying information from public review, we cannot guarantee that we will be able to do so. This notice is provided under section 10(a) of the ESA and USFWS regulations for implementing NEPA (40 CFR 1506.6).

Michael Fris,
Acting Deputy Regional Director, Pacific Southwest Region, Sacramento, California.

[FR Doc. 2010-8763 Filed 4-15-10; 8:45 am]

BILLING CODE 4310-55-P